NATIONAL AERONAUTICS AND SPACE ADMINISTRATION

[Notice [01-127]]

Agency Information Collection Activities; Proposed Collections

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information collection provides records of accountability, responsibility, transfer, location, and disposition of radioactive materials.

DATES: All comments should be submitted on or before December 17, 2001.

ADDRESSES: All comments should be addressed to Ms. Sue McDonald, Mail Code GP2, Lyndon B. Johnson Space Center, Houston, TX 77058.

FOR FURTHER INFORMATION CONTACT: Ms. Nancy Kaplan, NASA Reports Officer, (202) 358-1372.

Title: Radioactive Material Transfer Receipt.

OMB Number: 2700-0007.

Type of review: Extension.

Need and Uses: NASA Johnson Space Center is required by Federal law to keep records of the receipt, transfer, and disposal of radioactive items and information on accountability, responsibility, transfer, disposition, and location.

Affected Public: Business or other for-profit, Federal Government, State, local or tribal government.

Number of Respondents: 25.

Responses Per Respondent: 2.

Annual Responses: 50.

Hours Per Request: approx. ½ hr.

Annual Burden Hours: 29.

Frequency of Report: On occasion.

David B. Nelson,
Deputy Chief Information Officer, Office of the Administrator.

[FR Doc. 01-26258 Filed 10-17-01; 8:45 am]

BILLING CODE 7510-01-P